DEPARTMENT OF THE INTERIOR

Fish and Wildlife Service

[FWS-R8-ES-2009-N0017; 81420-1113-0000-F3]

Safe Harbor Agreement for East Bay Municipal Utility District Lands in San Joaquin, Amador, and Calaveras Counties, California

AGENCY: Fish and Wildlife Service, Interior.

ACTION: Notice of availability; receipt of application and proposed safe harbor agreement.

SUMMARY: This notice advises the public that East Bay Municipal Utility District (applicant) has applied to the U.S. Fish and Wildlife Service (Service) for a Safe Harbor Agreement (Agreement) for three Federally threatened species: Valley elderberry longhorn beetle (Desmocerus californicus dimorphus), California red-legged frog (Rana aurora draytonii), and California tiger salamander (Ambystoma californiense). The Agreement is available for public comment.

DATES: Written comments should be received on or before April 8, 2009.

ADDRESSES: Comments should be addressed to Mr. Rick Kuyper, U.S. Fish and Wildlife Service, Sacramento Fish and Wildlife Office, 2800 Cottage Way, W-2605, Sacramento, CA 95825. Written comments may also be sent by facsimile to (916) 414-6713.

FOR FURTHER INFORMATION CONTACT: Mr. Rick Kuyper, Sacramento Fish and Wildlife Office (see ADDRESSES); telephone: (916) 414-6600.

SUPPLEMENTARY INFORMATION:

Availability of Documents

You may obtain copies of the documents for review by contacting the individual named above. You may also make an appointment to view the documents at the above address during normal business hours.

Background

Under a Safe Harbor Agreement, participating landowners voluntarily undertake management activities on their property to enhance, restore, or maintain habitat benefiting species listed under the Act (16 U.S.C. 1531 et seq.). Safe Harbor Agreements, and the subsequent enhancement of survival permit that is issued pursuant to Section 10(a)(1)(A) of the Endangered Species Act of 1973, as amended (Act), encourage private and other non-Federal property owners to implement conservation efforts for listed species by assuring property owners that they will not be subjected to increased property use restrictions as a result of their efforts to attract listed species to their property, or to increase the numbers or distribution of listed species already on their property. Application requirements and issuance criteria for enhancement of survival permits through Safe Harbor Agreements are found in the Code of Federal Regulations (CFR) at 50 CFR 17.22(c).

We have worked with the applicant to develop the proposed Agreement for the conservation of the valley elderberry longhorn beetle, the California red-legged frog, and the California tiger salamander on lands owned and managed by the applicant (Enrolled Property) in San Joaquin, Amador, and Calaveras Counties, California. The 28,000-acre Enrolled Property subject to this Agreement consists of about 19,115 acres of land and 9,034 acres of water surface. The Enrolled Property borders and includes Camanche and Pardee dams and reservoirs. It also includes the lands adjacent to the lower Mokelumne River for approximately ½ mile below Camanche Dam. Current and recent land use practices on the enrolled property include management for water supply, flood control, grazing, aquaculture, hydroelectric power, wastewater treatment, facility maintenance, residential use, and recreation. The applicant has proposed that the Agreement provide authorized incidental take of the three Federally listed species for the activities specified above, as well as for any future activities associated with raising the heights of any existing dams.

In order to benefit the valley elderberry longhorn beetle, the California red-legged frog, and the California tiger salamander for the duration of this Agreement, the applicant proposes to create, restore, manage, and maintain suitable breeding and dispersal habitat for the three Federally listed species on the Enrolled Property. We expect that the proposed activities will result in an increase in dispersal opportunities throughout the Enrolled Property, thus resulting in a net conservation benefit for the three Federally listed species. The Enrolled Property has known occurrences of the valley elderberry longhorn beetle and the California tiger salamander. Although California red-legged frogs have not been detected within the Enrolled Property, there is suitable breeding habitat throughout the Enrolled Property, and there is a known occurrence of this species on privately owned property adjacent to the enrolled property. The Agreement includes a monitoring component that will aid the applicant in developing management strategies that will ensure the successful creation, restoration, enhancement, and management of breeding and dispersal habitat for the three Federally listed species.

The proposed duration of the Agreement and the enhancement of survival permit is 30 years. When fully implemented, the Agreement and requested enhancement of survival permit will allow the applicant to return to baseline after the end of the 30-year term of the Agreement and prior to the expiration of the 30-year permit, if so desired by the applicant. The Agreement fully describes the management activities to be undertaken by the applicant, and the net conservation benefits expected to the three Federally listed species.

Upon approval of this Agreement, and consistent with the our Safe Harbor Policy published in the Federal Register on June 17, 1999 (64 FR 32717), we would issue a permit to the applicant authorizing take of the valley elderberry longhorn beetle, the California red-legged frog, and the California tiger salamander incidental to the implementation of the management activities specified in the Agreement, incidental to other lawful uses of the Enrolled Property including normal, routine land management activities, and to return to pre-Agreement conditions (baseline).

Public Review and Comments

We have made a preliminary determination that the proposed Agreement and permit application are eligible for categorical exclusion under the National Environmental Policy Act of 1969 (NEPA). We explain the basis for this determination in an Environmental Action Statement that is also available for public review.

Individuals wishing copies of our Environmental Action Statement, and/or copies of the full text of the Agreement, including a map of the proposed permit area, should contact the office and personnel listed in the ADDRESSES section above.

Before including your address, phone number, e-mail address, or other personal identifying information in your comment, you should be aware that your entire comment—including your personal identifying information—may be made publicly available at any time. While you can ask us in your comment to withhold your personal identifying information from public review, we cannot guarantee that we will be able to do so.

We will evaluate this permit application, associated documents, and comments submitted thereon to determine whether the permit application meets the requirements of section 10(a) of the Act and NEPA regulations. If we determine that the requirements are met, we will sign the proposed Agreement and issue an enhancement of survival permit under section 10(a)(1)(A) of the Act to the applicant for take of the valley elderberry longhorn beetle, the California red-legged frog, and the California tiger salamander incidental to otherwise lawful activities in accordance with the terms of the Agreement. We will not make our final decision until after the end of the 30-day comment period and will fully consider all comments received during the comment period.

We provide this notice pursuant to section 10(c) of the Act and pursuant to implementing regulations for NEPA (40 CFR 1506.6).

Dated: March 2, 2009.
Susan K. Moore,
Field Supervisor, Sacramento Fish and Wildlife Office, Sacramento, California.

[FR Doc. E9-4944 Filed 3-6-09; 8:45 am]

BILLING CODE 4310-55-P